CIVIL RIGHTS COMMISSION

Sunshine Act Meeting

AGENCY: United States Commission on Civil Rights.

ACTION: Notice of Commission public business meeting.

DATES: Friday, September 13, 2019, 12:00 p.m. EDT.

ADDRESSES: Place: National Place Building, 1331 Pennsylvania Ave. NW, 11th Floor, Washington, DC 20425. (Entrance on F Street NW.)

FOR FURTHER INFORMATION CONTACT: Brian Walch: (202) 376-8371; TTY: (202) 376-8116; publicaffairs@usccr.gov.

SUPPLEMENTARY INFORMATION: This business meeting is open to the public. There will also be a call-in line for individuals who desire to listen to the meeting and presentations: (800) 823-1563, conference ID 5311767. The meeting will also live-stream. (Subject to change.) Persons with disabilities who need accommodation should contact Pamela Dunston at (202) 376-8105 or at access@usccr.gov at least seven business days before the date of the meeting.

Meeting Agenda

I. Approval of Agenda

II. Business Meeting

A. Presentation by Nebraska Advisory Committee Chair on the Committee's recent statement on use of Native American Mascots in Non-Native Public Schools

B. Presentation by Maine Advisory Committee Chair on the Committee's recent report, Criminalization of People with Mental Illnesses in Maine

C. Presentation by South Dakota Advisory Committee Chair on the Committee's recent Summary of Briefings on Subtle Racism in South Dakota

D. Discussion and vote on discovery materials for the Commission's project on subminimum wages for workers with disabilities

E. Discussion and vote on revised timeline for Commission's project on Title IX, Freedom from Sexual Harassment, the Department of Education, and Free Speech on Campus

F. Management and Operations

• Staff Director's Report

G. [At 2:00 p.m. EDT] Speaker Series presentation by Professors Eric Foner and Thavolia Glymph, Lessons of the Reconstruction Period for Today's Civil Rights Debates.

III. Adjourn Meeting

Dated: August 29, 2019.
Brian Walch,
Director, Communications and Public Engagement.

[FR Doc. 2019-19034 Filed 8-29-19; 11:15 am]

BILLING CODE 6335-01-P